DEPARTMENT OF ENERGY

10 CFR Part 430

[Docket No. EERE-2011-BT-TP-0061]

RIN 1904-AC65

Test Procedures for Showerheads, Faucets, Water Closets, Urinals, and Commercial Prerinse Spray Valves: Public Meeting

AGENCY: Office of Energy Efficiency and Renewable Energy, U.S. Department of Energy.

ACTION: Notice of public meeting and request for public comment.

SUMMARY: The U.S. Department of Energy (DOE) will hold a public meeting to discuss methodologies and gather comments on DOE's proposed test method for verifying the amount of force required to remove the flow control insert of showerheads for purposes of amending DOE test procedures. In addition, DOE encourages written comments on these subjects.

DATES: DOE will hold a public meeting on Tuesday, July 30, 2013, from 1 p.m. to 3 p.m. in Washington, DC. DOE will accept comments, data, and information regarding the subjects of this notice before or after the public meeting, but no later than August 9, 2013.

ADDRESSES: The public meeting will be held at the U.S. Department of Energy, Forrestal Building, Room 8E-089, 1000 Independence Avenue SW., Washington, DC 20585-0121. To attend, please notify Ms. Brenda Edwards at (202) 586-2945. Please note that foreign nationals visiting DOE Headquarters are subject to advance security screening procedures. Any foreign national wishing to participate in the public meeting should advise DOE as soon as possible by contacting Ms. Brenda Edwards at (202) 586-2945 to initiate the necessary procedures.

Interested parties may submit comments, identified by docket number EERE-2011-BT-TP-0061 or Regulation Identifier Number (RIN) 1904-AC65, by any of the following methods:

1. Federal eRulemaking Portal: http://www.regulations.gov. Follow the instructions for submitting comments.

2. Email: PlumbingPrds-2011-TP-0061@ee.doe.gov. Include the docket number and/or RIN in the subject line of the message.

3. Mail: Ms. Brenda Edwards, U.S. Department of Energy, Building Technologies Program, Mailstop EE-2J, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

Docket: The docket is available for review at www.regulations.gov. All documents in the docket are listed in the www.regulations.gov index. However, not all documents in the index may be publicly available, such as information that is exempt from public disclosure. A link to the docket Web page can be found at www.regulations.gov. The www.regulations.gov Web page contains a link to the docket for this notice, along with simple instructions on how to access all documents in the docket, including public comments.

FOR FURTHER INFORMATION CONTACT:

Mr. Lucas Adin, U.S. Department of Energy, Office of Energy Efficiency and Renewable Energy, Building Technologies, EE-2J, 1000 Independence Avenue SW., Washington, DC 20585-0121. Phone: (202) 287-1317. Email: Lucas.Adin@ee.doe.gov.

Ms. Jennifer Tiedeman, U.S. Department of Energy, Office of the General Counsel, GC-71, 1000 Independence Avenue SW., Washington, DC 20585-0121. Phone: (202) 287-6111. Email: Jennifer.Tiedeman@hq.doe.gov.

SUPPLEMENTARY INFORMATION: Title III of the Energy Policy and Conservation Act of 1975 (42 U.S.C. 6291, et seq.; “EPCA”) sets forth a variety of provisions designed to improve energy efficiency. (All references to EPCA refer to the statute as amended through the American Energy Manufacturing Technical Corrections Act (AEMTCA), Pub. L. 112-210 (Dec. 18, 2012)). Part B of title III (42 U.S.C. 6291-6309, as codified) establishes the Energy Conservation Program for Consumer Products Other Than Automobiles, which includes the showerheads that are the subjects of today's notice.¹

¹ For editorial reasons, upon codification in the U.S. Code, Part B was re-designated Part A.

Under EPCA, the program consists of four activities: (1) Testing; (2) labeling; and (3) Federal energy and water conservation standards; and (4) certification, and enforcement procedures. The testing requirements consist of test procedures that manufacturers of covered products must use as the basis for (1) certifying to DOE that their products comply with applicable water conservation standards adopted pursuant to EPCA and (2) making representations about the water consumption of those products. Similarly, DOE must use these test procedures to determine whether the products comply with any relevant standards promulgated under EPCA.

EPCA states that the procedures for testing and measuring the water use of faucets and showerheads shall be American Society of Mechanical Engineers (ASME) Standard A112.18.1M-1989, “Plumbing Fixture Fittings.” ² EPCA further specifies that if ASME revises these requirements, the Secretary of Energy (Secretary) shall adopt such revisions if they conform to the basic statutory requirements for test procedures. (42 U.S.C. 6293(b)(7)) DOE last amended test procedures for these products in a final rule published in March 1998 (March 1998 final rule), which incorporated by reference ASME Standard A112.18.1M-1996, “Plumbing Fixture Fittings,” for showerheads and faucets.³ 63 FR 13308 (March 18, 1998). The current test procedures for faucets and showerheads, as adopted in the March 1998 final rule, are located in appendix S to subpart B of 10 CFR part 430, “Uniform Test Method for Measuring the Water Consumption of Faucets and Showerheads.”

² EPCA also mandates that the test procedure for water closets and urinals shall be ASME Standard A112.19.6-1990, “Hydraulic Requirements for Water Closets and Urinals.”

³ DOE also incorporated by reference ASME Standard A112.19.6-1995, “Hydraulic Performance Requirements for Water Closets and Urinals,” for water closets and urinals in this final rule.

On May 30, 2012, DOE issued a notice of proposed rulemaking, proposing to amend, among other items, the test procedures for showerheads by incorporating by reference, with the exception of certain provisions regarding rounding of measured values, ASME Standard A112.18.1-2011. 77 FR 31742, 31744. DOE requested comments and information on prospective methods for verifying compliance with the requirement in section 42 U.S.C. 6295(j)(1) of EPCA that a showerhead must be manufactured such that a pushing or pulling force of 8 lbf or more is required to remove the insert.⁴ DOE also requested comments and information on showerhead designs that may complicate verification of the force requirement or, alternatively, make verification unnecessary. 77 FR at 31746-31748.

⁴ This requirement is also found in 10 CFR 430.32(p) and section 4.11.1 of ASME A112.18.1-2011.

Several comments submitted in response to the NOPR recommended that DOE not adopt a standardized test method (Docket No. EERE-2011-BT-TP-0061, Moen, No. 4 at p. 2; PMI, No. 8 at p. 2; Kohler, No. 9 at p. 3; Kohler, Public Meeting Transcript, No. 11 at p. 47; ICC, Public Meeting Transcript, No. 11 at pp. 48-49; Sloan Valve, No. 12 at p. 2); on the other hand, some comments suggested that such a test would be valuable (NRDC/ASAP, No. 14 at p. 5). DOE did not receive any comments indicating that a standardized method currently exists, however. DOE subsequently conducted testing on a selection of showerhead models to evaluate flow insert designs and developed a pull-force verification test. In an April 8, 2013 supplemental notice of proposed rulemaking (SNOPR), DOE proposed to adopt this test method, which would not be required for certifying compliance with the DOE standards at 10 CFR 430.32(p), but rather, would only be used by DOE for verification or enforcement testing. 78 FR at 20835-20837.

In response to the SNOPR, DOE received several comments opposing adoption of a standardized test, generally indicating that the proposed pull-style test represented a duplication of the requirements in the ASME Standard A112.18.1 test method or that it would conflict with other established industry test methods (NSF, No. 22 at p. 2, PMI, No. 23 at p. 3, Kohler, No. 27 at p. 2, Chicago Faucet, No. 28 at p. 2, and Moen, No. 30 at p. 2). However, DOE notes that A112.18.1 states only that the flow-restricting insert in a showerhead must be mechanically retained at the point of manufacture such that a pulling or pushing force of 8 lbf or more is required to remove the insert, but does not specify a method for verifying that this requirement has been met for a given model. DOE did not receive any comments describing a test method currently in use by manufacturers, test laboratories, or others for verifying compliance with this requirement.

To ensure that all aspects of DOE's proposal for a standardized method of verifying compliance with the requirements for the flow-restricting insert have been considered and to consider whether DOE's proposed method should be adopted in the absence of an industry test method, DOE has scheduled a public meeting to receive additional information, comments, and proposals from manufacturers, testing organizations, and other interested stakeholders. DOE encourages stakeholders to bring examples of products subject to these requirements that may aid in discussions of prospective test methodologies or that illustrate points raised in comments. DOE does not intend to discuss any other aspect of the plumbing products test procedure proposals as part of this meeting.

DOE will conduct the public meeting in an informal, facilitated, conference style. There shall be no discussion of proprietary information, costs or prices, market shares, or other commercial matters regulated by U.S. antitrust laws. A court reporter will record the minutes of the meeting, after which a transcript will be available for purchase from the court reporter and placed on the DOE Web site.

Anyone who wishes to participate in the public meeting, receive meeting materials, or be added to the DOE mailing list to receive future notices and information about showerheads should contact Ms. Brenda Edwards at (202) 586-2945.

Issued in Washington, DC, on July 11, 2013.
Kathleen B. Hogan,
Deputy Assistant Secretary for Energy Efficiency, Energy Efficiency and Renewable Energy.

[FR Doc. 2013-17157 Filed 7-16-13; 8:45 am]

BILLING CODE 6450-01-P